DEPARTMENT OF THE INTERIOR

National Park Service

[NPS-WASO-NAGPRA-NPS0040325; PPWOCRADN0-PCU00RP14.R50000]

Notice of Intended Repatriation: The Filson Historical Society, Louisville, KY

AGENCY: National Park Service, Interior.

ACTION: Notice.

SUMMARY: In accordance with the Native American Graves Protection and Repatriation Act (NAGPRA), the Filson Historical Society intends to repatriate certain cultural items that meet the definition of unassociated funerary objects and that have a cultural affiliation with the Indian Tribes or Native Hawaiian organizations in this notice.

DATES: Repatriation of the cultural items in this notice may occur on or after July 11, 2025.

ADDRESSES: Send written requests for repatriation of the cultural items in this notice to Kelly Hyberger, The Filson Historical Society, 1310 South 3rd Street, Louisville, KY 40208, email khyberger@filsonhistorical.org.

SUPPLEMENTARY INFORMATION: This notice is published as part of the National Park Service's administrative responsibilities under NAGPRA. The determinations in this notice are the sole responsibility of the Filson Historical Society, and additional information on the determinations in this notice, including the results of consultation, can be found in the summary or related records. The National Park Service is not responsible for the determinations in this notice.

Abstract of Information Available

A total of 123 cultural items have been requested for repatriation. The 123 unassociated funerary objects are one adz, one bone awl, six grooved axes, three bannerstones, one lot of beads, one sandstone bowl, 26 stone celts, three discoidals, five gorgets, one stone hoe, three stone mauls, one stone cylinder fragment, 26 stone pestles, three stone pipes, two fragmented pipes, 19 spearheads, two scrapers, one sinker, one ceramic bowl, one lot of axes, one lot of celts and chisels, one lots of unidentified clay implements, one lot of stone drills, one lot of hammerstones, one lot of hemisphere stones, one lots of hoes, one lot of stone knives, one lot of lap stones, one lot of stone mauls, one lot of midden material, one lot of pestles, one lot of points, one lot of polishing sinkers, one lot of scrapers, one lot of stone sinkers, and one lot of stone tools.

Of the unassociated funeral objects requested, 106 were donated to the Filson by Otto Rothert in 1929. At various dates prior to 1929, Rothert collected these items from mound sites throughout Muhlenberg County, KY.

Of the unassociated funerary objects requests, 17 lots of items consist of co-mingled material removed from various undocumented sites across Kentucky, including material collected by Rothert from mound sites in Muhlenberg County, Kentucky.

Determinations

The Filson Historical Society has determined that:

• The 123 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Cherokee Nation; Eastern Band of Cherokee Indians; and the United Keetoowah Band of Cherokee Indians in Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 11, 2025. If competing requests for repatriation are received, the Filson Historical Society must determine the most appropriate requestor prior to repatriation. Requests for joint repatriation of the cultural items are considered a single request and not competing requests. The Filson Historical Society is responsible for sending a copy of this notice to the Indian Tribes and Native Hawaiian organizations identified in this notice and to any other consulting parties.

Authority: Native American Graves Protection and Repatriation Act, 25 U.S.C. 3004 and the implementing regulations, 43 CFR 10.9.

Dated: May 28, 2025.
Melanie O'Brien,
Manager, National NAGPRA Program.

[FR Doc. 2025-10595 Filed 6-10-25; 8:45 am]

BILLING CODE 4312-52-P